DEPARTMENT OF THE INTERIOR

National Park Service

[NPS-WASO-DPOL-13795; PPWODIREP0][PPMPSPD1Y.YM0000]

Notice of October 15-16, 2013, Meeting of the National Park System Advisory Board

AGENCY: National Park Service, Interior.

ACTION: Meeting notice.

SUMMARY: Notice is hereby given in accordance with the Federal Advisory Committee Act, 5 U.S.C. Appendix, and parts 62 and 65 of title 36 of the Code of Federal Regulations, that the National Park System Advisory Board will meet October 15-16, 2013, in Washington, DC. The agenda will include the review of proposed actions regarding the National Historic Landmarks Program and the National Natural Landmarks Program. The Board also may consider recommendations in the Draft Feasibility Study and Environmental Assessment for the Proposed Butterfield Overland National Historic Trail prepared in compliance with Section 7209 of Public Law 111-11. Interested parties are encouraged to submit written comments and recommendations that will be presented to the Board. Interested parties also may attend the board meeting and upon request may address the Board concerning an area's national significance.

DATES: (a) Written comments regarding any proposed National Historic Landmarks matter or National Natural Landmarks matter listed in this notice will be accepted by the National Park Service until October 21, 2013. (b) The Board will meet on October 15-16, 2013.

ADDRESSES: The meeting will be held in Meeting Room A of the American Geophysical Union, 3000 Florida Avenue NW., Washington, DC 20009, telephone (202) 462-6900.

Agenda: On the morning of October 15, the Board will tour and be briefed on sites within the National Capital Region. The Board will convene its business meeting at 2:00 p.m., and adjourn for the day at 5:00 p.m. On October 16, the Board will reconvene at 8:30 a.m., and adjourn at 3:30 p.m. During the course of the two days, the Board may be addressed by Secretary of the Interior Sally Jewell, and National Park Service Director Jonathan Jarvis; briefed by other National Park Service officials regarding education, leadership development and science; deliberate and make recommendations concerning National Historic Landmarks Program, National Natural Landmarks Program, and National Historic Trails Program proposals; and receive status briefings on matters pending before committees of the Board.

FOR FURTHER INFORMATION CONTACT: (a) For information concerning the National Park System Advisory Board or to request to address the Board, contact Shirley Sears, Office of Policy, National Park Service, 1201 I Street NW., 12th Floor, Washington, DC 20005, telephone (202) 354-3955, email Shirley_Sears@nps.gov. (b) To submit a written statement specific to, or request information about, any National Historic Landmarks matter listed below, or for information about the National Historic Landmarks Program or National Historic Landmarks designation process and the effects of designation, contact J. Paul Loether, Chief, National Register of Historic Places and National Historic Landmarks Program, National Park Service, 1849 C Street NW. (2280), Washington, DC 20240, email Paul_Loether@nps.gov. (c) To submit a written statement specific to, or request information about the National Historic Trails Program matter listed below, or for information about the National Historic Trails Program or the National Trails System, contact Aaron Mahr Yáñez, Superintendent, National Trails, Intermountain Region, National Park Service, P.O. Box 728, Santa Fe, New Mexico 97504, telephone (505) 988-6736, email Aaron_Mahr@nps.gov. (d) To submit a written statement specific to, or request information about, any National Natural Landmarks matter listed below, or for information about the National Natural Landmarks Program or National Natural Landmarks designation process and the effects of designation, contact Dr. Margaret Brooks, Program Manager, National Natural Landmarks Program, National Park Service, 225 N. Commerce Park Loop, Tucson, Arizona 85745, email Margi_Brooks@nps.gov.

SUPPLEMENTARY INFORMATION: Matters concerning the National Historic Landmarks Program, National Historic Trails Program, and National Natural Landmarks Program will be considered by the Board as follows:

A. National Historic Landmarks (NHL) Program

NHL Program matters will be considered at the morning session of the business meeting on October 16, during which the Board may consider the following:

Nominations for New NHL Designations

Illinois

• Adlai E. Stevenson II Farm, Mettawa, IL

Michigan

• The Detroit Industry Murals, Detroit Institute of Arts, Detroit, MI

Pennsylvania

• George Nakashima Woodworker Complex, Bucks County, PA

B. National Historic Trails (NHT) Program

NHT Program matters will be considered at the morning session of the business meeting on October 16, during which the Board may consider the following proposed National Historic Trail:

Proposed National Historic Trail

• Proposed Butterfield Overland National Historic Trail, MO, TN, AR, OK, TX, NM, AZ, CA.

(National Historic Significance Recommendation)

C. National Natural Landmarks (NNL) Program

NNL Program matters will be considered at the morning session of the business meeting on October 16, during which the Board may consider the following:

Nomination for New NNL Designation

New York

• Albany Pine Bush, Albany County, NY

The board meeting will be open to the public. The order of the agenda may be changed, if necessary, to accommodate travel schedules or for other reasons. Space and facilities to accommodate the public are limited and attendees will be accommodated on a first-come basis. Anyone may file with the Board a written statement concerning matters to be discussed. The Board also will permit attendees to address the Board, but may restrict the length of the presentations, as necessary to allow the Board to complete its agenda within the allotted time. Before including your address, telephone number, email address, or other personal identifying information in your comment, you should be aware that your entire comment—including your personal identifying information—may be made publicly available at any time. While you can ask us in your comment to withhold your personal identifying information from public review, we cannot guarantee that we will be able to do so.

Draft minutes of the meeting will be available for public inspection about 12 weeks after the meeting in the 12th floor conference room at 1201 I Street NW., Washington, DC.

Dated: August 14, 2013.
Alma Ripps,
Chief, Office of Policy.

[FR Doc. 2013-20288 Filed 8-19-13; 8:45 am]

BILLING CODE 4310-EE-P